DEPARTMENT OF THE INTERIOR

National Park Service

[NPS-SER-BISC-09775; PPSESEROC3, PPMPSAF1Y.YP0000]

Record of Decision for the Coral Reef Restoration Plan, Biscayne National Park, FL

AGENCY: National Park Service, Interior.

ACTION: Notice of Availability.

SUMMARY: Pursuant to the National Environmental Policy Act (NEPA) of 1969, 42 U.S.C. 4332(2)(C), the National Park Service announces the availability of the Record of Decision (ROD) for the Coral Reef Restoration Plan (Plan) for Biscayne National Park, Florida. On May 31, 2012, the Regional Director, Southeast Region, approved the ROD for the project.

FOR FURTHER INFORMATION CONTACT: Elsa Alvear, Biscayne National Park, 9700 SW. 328th Street, Homestead, FL 33033; Telephone (786)-335-3623.

SUPPLEMENTARY INFORMATION: Many vessel groundings occur annually in Biscayne National Park, causing injuries to submerged resources. The goal of coral reef restoration actions in Biscayne National Park is to create a stable, self-sustaining reef environment of similar topography and surface complexity to that which existed prior to injury, such that natural recovery processes, enhanced through mitigation, if needed, will lead to a fully functioning coral reef community with near natural complexity, structure, and make-up of organisms. The Plan provides a systematic approach to addressing injuries to coral reefs caused by vessel groundings within Biscayne National Park. The Environmental Impact Statement prepared for the Plan analyzed two alternatives, the No Action alternative (Alternative 1) and Restoration Using a Programmatic Approach (Alternative 2).

Alternative 1 would not change the existing approach to coral reef restoration planning and implementation, including NEPA compliance. Currently, Biscayne National Park resource managers evaluate the impacts of coral reef restoration actions and specific restoration methods when planning and implementing restoration at each grounding incident. In contrast, to address each coral injury under Alternative 2, the most appropriate restoration actions and specific restoration methods would be selected from a “toolbox” of methods that already have had their impacts evaluated programmatically. Under Alternative 2, 10 reasonable and common coral reef restoration actions were identified and evaluated for inclusion in the toolbox.

The ROD identifies Alternative 2 (Restoration Using a Programmatic Approach) as the National Park Service's selected action. The ROD includes a statement of the decision made, a summary of the other alternative considered, the basis for the decision, a description of the environmentally preferable alternative, and a summary of public and agency involvement in the decision-making process. Copies of the ROD may be obtained from the contact listed below or online at http://parkplanning.nps.gov/bisc.

The responsible official for this Record of Decision is the Regional Director, Southeast Region, National Park Service, 100 Alabama Street SW., 1924 Building, Atlanta, Georgia 30303.

Dated: March 7, 2013.
Gordon Wissinger,
Acting Regional Director, Southeast Region.

[FR Doc. 2013-05898 Filed 3-13-13; 8:45 am]

BILLING CODE 4310-JD-P